DEPARTMENT OF TRANSPORTATION

Federal Aviation Administration

Public Notice of ADAP and AIP Property Release; Seattle-Tacoma International Airport, Seattle, Washington

AGENCY: Federal Aviation Administration, (FAA), DOT.

ACTION: Notice of request to release Airport Development Aid Program (ADAP) and Airport Improvement Program (AIP) property.

SUMMARY: Notice is being given that the FAA is considering a request from the Port of Seattle, Washington to waive the ADAP and AIP property requirements and dispose of 4 parcels totaling approximately 1.2 acres of airport property located at Seattle-Tacoma International Airport, in Seattle, Washington.

DATES: Comments are due within 30 days of the date of the publication of this notice in the Federal Register. Emailed comments can be provided to Mr. Tim House, Lead Planner, Seattle Airports District Office, timothy.a.house@faa.gov.

FOR FURTHER INFORMATION CONTACT: Tim House, Lead Planner, Seattle Airports District Office, 2200 S. 216 St., Des Moines, WA, 98198, timothy.a.house@faa.gov, (206) 231-4248. Documents reflecting this FAA action may be reviewed at the above locations.

SUPPLEMENTARY INFORMATION: The subject property is located south of the airport. The Washington State Department of Transportation (WSDOT) owned Right of Way, which is planned for Highway SR 509 construction, is adjacent to and separates the parcels from the aeronautical areas of the airport. This release will allow the Port of Seattle to sell 1.2 acres of land which has no adjacency to other Port property and no street access. The proceeds generated from the proposed release will be utilized to purchase WSDOT owned land that is surplus to their needs and is adjacent to Port of Seattle owned land. The Port of Seattle will receive not less than fair market value for the property. It has been determined through study that the subject 1.2 acres will not be needed for aeronautical purposes.

Authority: 49 U.S.C. 47153(c).

Issued in Des Moines, Washington, on July 1, 2024.
Warren D. Ferrell,
Manager, Seattle Airports District Office.

[FR Doc. 2024-14774 Filed 7-5-24; 8:45 am]

BILLING CODE 4910-13-P